OFFICE OF PERSONNEL MANAGEMENT

Proposed Collection: Comment Request for Review of an Expiring Information Collection: Procedures for Submitting Compensation and Leave Claims

AGENCY: Office of Personnel Management.

ACTION: Notice.

SUMMARY: In accordance with the Paperwork Reduction Act of 1995 (Pub. L. 104-13, May 22, 1995), this notice announces that the Office of Personnel Management (OPM) intends to submit to the Office of Management and Budget a request for review of an expiring information collection. Procedures for Submitting Compensation and Leave Claims is used to collect information from current and former Federal employees who are submitting a claim for compensation and/or leave. OPM needs this information in order to adjudicate the claim.

Approximately 100 claims are submitted annually. It takes approximately 60 minutes to compile the information needed to submit a claim. The annual estimated burden is 100 hours.

Comments are particularly invited on:

• Whether this collection of information is necessary for the proper performance of functions of the Office of Personnel Management, and whether it will have practical utility;

• Whether our estimate of the public burden of this collection is accurate, and based on valid assumptions and methodology; and

• Ways in which we can minimize the burden of the collection of information on those who are to respond, through use of the appropriate technological collection techniques or other forms of information technology.

For copies of this proposal, contact Mary Beth Smith-Toomey on (202) 606-8358, or E-mail to mbtoomey@opm.gov.

DATES: Comments on this proposal should be received on or before January 8, 2001.

ADDRESSES: Send or deliver comments to—Melissa A. Drummond, Program Manager, Office of Merit Systems Oversight, Office of Merit Systems Oversight and Effectiveness, U.S. Office of Personnel Management, 1900 E Street, NW, Room 7671, Washington, DC 20415.

Office of Personnel Management.
Janice R. Lachance,
Director.

[FR Doc. 00-28790 Filed 11-8-00; 8:45 am]

BILLING CODE 6325-01-P